DEPARTMENT OF ENERGY

Federal Energy Regulatory Commission

Combined Notice of Filings

Take notice that the Commission has received the following Natural Gas Pipeline Rate and Refund Report filings:

Docket Numbers: RP11-2302-000.

Applicants: Kinder Morgan Interstate Gas Transmission LLC.

Description: Kinder Morgan Interstate Gas Transmission LLC submits tariff filing per 154.204: Negotiated Rate 2011-07-27 Cima, Concord, Enserco to be effective 7/28/2011.

Filed Date: 07/27/2011.

Accession Number: 20110727-5072.

Comment Date: 5 p.m. Eastern Time on Monday, August 08, 2011.

Docket Numbers: RP11-2303-000.

Applicants: Equitrans, L.P.

Description: Equitrans, L.P. submits tariff filing per 154.204: Equitrans' Negotiated Rate Service Agreement Filing to be effective 8/1/2011.

Filed Date: 07/27/2011.

Accession Number: 20110727-5097.

Comment Date: 5 p.m. Eastern Time on Monday, August 08, 2011.

Docket Numbers: RP11-2304-000.

Applicants: Texas Eastern Transmission, LP.

Description: Texas Eastern Transmission, LP submits tariff filing per 154.203: TEMAX-TIME 3 Marietta Extension—CP09-68 Compliance to be effective 8/26/2011.

Filed Date: 07/27/2011.

Accession Number: 20110727-5101.

Comment Date: 5 p.m. Eastern Time on Monday, August 08, 2011.

Docket Numbers: RP11-2305-000.

Applicants: Transcontinental Gas Pipe Line Company.

Description: Transcontinental Gas Pipe Line Company, LLC submits tariff filing per 154.403: S-2 Tracker Filing to be effective 8/1/2011.

Filed Date: 07/28/2011.

Accession Number: 20110728-5023.

Comment Date: 5 p.m. Eastern Time on Tuesday, August 09, 2011.

Docket Numbers: RP11-2306-000.

Applicants: Great Lakes Gas Transmission Limited Partnership.

Description: Great Lakes Gas Transmission Limited Partnership submits tariff filing per 154.203: Transporters Use Report Jan-June 2011 to be effective N/A.

Filed Date: 07/28/2011.

Accession Number: 20110728-5079.

Comment Date: 5 p.m. Eastern Time on Tuesday, August 09, 2011.

Docket Numbers: RP11-2307-000.

Applicants: Ozark Gas Transmission, LLC.

Description: Ozark Gas Transmission, LLC submits tariff filing per 154.204: Negotiated Rate—Southwestern Energy—contract 820131 to be effective 8/1/2011.

Filed Date: 07/28/2011.

Accession Number: 20110728-5093.

Comment Date: 5 p.m. Eastern Time on Tuesday, August 09, 2011.

Docket Numbers: RP11-2308-000.

Applicants: Algonquin Gas Transmission, LLC.

Description: Algonquin Gas Transmission, LLC submits tariff filing per 154.204: AGT Winter Operations Review to be effective 9/1/2011.

Filed Date: 07/28/2011.

Accession Number: 20110728-5116.

Comment Date: 5 p.m. Eastern Time on Tuesday, August 09, 2011.

Docket Numbers: RP11-2309-000.

Applicants: CenterPoint Energy Gas Transmission Company, LLC.

Description: CenterPoint Energy Gas Transmission Company, LLC submits tariff filing per 154.204: CEGT LLC—Negotiated Rate—August 2011—CEMI to be effective 8/1/2011.

Filed Date: 07/28/2011.

Accession Number: 20110728-5140.

Comment Date: 5 p.m. Eastern Time on Tuesday, August 09, 2011.

Docket Numbers: RP11-2310-000.

Applicants: Trailblazer Pipeline Company LLC.

Description: Penalty Revenue Crediting Report of Trailblazer Pipeline Company LLC.

Filed Date: 07/28/2011.

Accession Number: 20110728-5163.

Comment Date: 5 p.m. Eastern Time on Tuesday, August 09, 2011.

Docket Numbers: RP11-2311-000.

Applicants: Algonquin Gas Transmission, LLC.

Description: Algonquin Gas Transmission, LLC submits tariff filing per 154.204: ConEd 2011-08-01 Releases to be effective 8/1/2011.

Filed Date: 07/28/2011.

Accession Number: 20110728-5170.

Comment Date: 5 p.m. Eastern Time on Tuesday, August 09, 2011.

Docket Numbers: RP11-2312-000.

Applicants: National Fuel Gas Supply Corporation.

Description: National Fuel Gas Supply Corporation submits tariff filing per 154.204: 2011 August IG Rate to be effective 8/1/2011.

Filed Date: 07/29/2011.

Accession Number: 20110729-5020.

Comment Date: 5 p.m. Eastern Time on Wednesday, August 10, 2011.

Docket Numbers: RP11-2313-000.

Applicants: Dominion South Pipeline Company, LP.

Description: Dominion South Pipeline Company, LP submits tariff filing per 154.203: DSP—2011 Report of Penalty Revenues to be effective N/A.

Filed Date: 07/29/2011.

Accession Number: 20110729-5021.

Comment Date: 5 p.m. Eastern Time on Wednesday, August 10, 2011.

Docket Numbers: RP11-2314-000.

Applicants: Trunkline Gas Company, LLC.

Description: Trunkline Gas Company, LLC submits tariff filing per 154.204: Negotiated Rates Filing—13 to be effective 8/1/2011.

Filed Date: 07/29/2011.

Accession Number: 20110729-5029.

Comment Date: 5 p.m. Eastern Time on Wednesday, August 10, 2011.

Docket Numbers: RP11-2315-000.

Applicants: Gulf Crossing Pipeline Company LLC.

Description: Gulf Crossing Pipeline Company LLC submits tariff filing per 154.204: Antero 2 to Tenaska 205 Capacity Release Negotiated Rate Agreement Filing to be effective 8/1/2011.

Filed Date: 07/29/2011.

Accession Number: 20110729-5087.

Comment Date: 5 p.m. Eastern Time on Wednesday, August 10, 2011.

Docket Numbers: RP11-2316-000.

Applicants: Gulf South Pipeline Company, LP.

Description: Gulf South Pipeline Company, LP submits tariff filing per 154.204: Enerquest 34686 to BP 38991 Capacity Release Negotiated Rate Agreement to be effective 8/1/2011.

Filed Date: 07/29/2011.

Accession Number: 20110729-5090.

Comment Date: 5 p.m. Eastern Time on Wednesday, August 10, 2011.

Docket Numbers: RP11-2317-000.

Applicants: Texas Gas Transmission, LLC.

Description: Texas Gas Transmission, LLC submits tariff filing per 154.204: BHP Billiton Petroleum Negotiated Rate Agreement Filing to be effective 8/1/2011.

Filed Date: 07/29/2011.

Accession Number: 20110729-5091.

Comment Date: 5 p.m. Eastern Time on Wednesday, August 10, 2011.

Docket Numbers: RP11-2318-000.

Applicants: Big Sandy Pipeline, LLC.

Description: Big Sandy Pipeline, LLC submits tariff filing per 154.203: Big Sandy Fuel Filing effective 9-1-11 to be effective N/A.

Filed Date: 07/29/2011.

Accession Number: 20110729-5094.

Comment Date: 5 p.m. Eastern Time on Wednesday, August 10, 2011.

Docket Numbers: RP11-2319-000.

Applicants: Natural Gas Pipeline Company of America LLC

Description: Natural Gas Pipeline Company of America LLC submits tariff filing per 154.204: Negotiated Rate Filing—Twin Eagle to be effective 8/1/2011.

Filed Date: 07/29/2011.

Accession Number: 20110729-5126.

Comment Date: 5 p.m. Eastern Time on Wednesday, August 10, 2011.

Docket Numbers: RP11-2320-000.

Applicants: Dauphin Island Gathering Partners.

Description: Dauphin Island Gathering Partners submits tariff filing per 154.204: Negotiated Rates 2011-07-29 to be effective 8/1/2011.

Filed Date: 07/29/2011.

Accession Number: 20110729-5187.

Comment Date: 5 p.m. Eastern Time on Wednesday, August 10, 2011.

Docket Numbers: RP11-2321-000.

Applicants: Rockies Express Pipeline LLC.

Description: Rockies Express Pipeline LLC submits tariff filing per 154.204: Negotiated Rate 2011-07-29 BP, Johnstown to be effective 8/1/2011.

Filed Date: 07/29/2011.

Accession Number: 20110729-5188.

Comment Date: 5 p.m. Eastern Time on Wednesday, August 10, 2011.

Docket Numbers: RP11-2322-000.

Applicants: Kinder Morgan Interstate Gas Transmission LLC.

Description: Kinder Morgan Interstate Gas Transmission LLC submits tariff filing per 154.204: Negotiated Rate 2011-07-29 Concord to be effective 8/1/2011.

Filed Date: 07/29/2011.

Accession Number: 20110729-5191.

Comment Date: 5 p.m. Eastern Time on Wednesday, August 10, 2011.

Docket Numbers: RP11-2323-000.

Applicants: Dominion Transmission, Inc.

Description: Dominion Transmission, Inc. submits tariff filing per 154.204: DTI—July 29, 2011 Negotiated Rate Agreement to be effective 8/1/2011.

Filed Date: 07/29/2011.

Accession Number: 20110729-5204.

Comment Date: 5 p.m. Eastern Time on Wednesday, August 10, 2011.

Docket Numbers: RP11-2324-000.

Applicants: Fayetteville Express Pipeline LLC.

Description: Fayetteville Express Pipeline LLC submits tariff filing per 154.403(d)(2): FEP Semi-Annual Fuel Filing 001 to be effective 9/1/2011.

Filed Date: 07/29/2011.

Accession Number: 20110729-5213.

Comment Date: 5 p.m. Eastern Time on Wednesday, August 10, 2011.

Docket Numbers: RP11-2325-000.

Applicants: Columbia Gas Transmission, LLC.

Description: Columbia Gas Transmission, LLC submits tariff filing per 154.204: LNG EPCA Errata to be effective 8/1/2011.

Filed Date: 07/29/2011.

Accession Number: 20110729-5215.

Comment Date: 5 p.m. Eastern Time on Wednesday, August 10, 2011.

Docket Numbers: RP11-2326-000.

Applicants: Kinder Morgan Interstate Gas Transmission LLC.

Description: Kinder Morgan Interstate Gas Transmission LLC submits tariff filing per 154.204: Negotiated Rate 2011-07-29 Hastings to be effective 9/1/2011.

Filed Date: 07/29/2011.

Accession Number: 20110729-5223.

Comment Date: 5 p.m. Eastern Time on Wednesday, August 10, 2011.

Docket Numbers: RP11-2327-000.

Applicants: ETC Tiger Pipeline, LLC.

Description: ETC Tiger Pipeline, LLC submits tariff filing per 154.403(d)(2): Tiger Semi-Annual Fuel Filing 001 to be effective 9/1/2011.

Filed Date: 07/29/2011.

Accession Number: 20110729-5236.

Comment Date: 5 p.m. Eastern Time on Wednesday, August 10, 2011.

Docket Numbers: RP11-2328-000.

Applicants: Kern River Gas Transmission Company.

Description: Kern River Gas Transmission Company submits tariff filing per 154.204: 2011 Self-Contained Rate Schedules to be effective 9/1/2011.

Filed Date: 07/29/2011.

Accession Number: 20110729-5247.

Comment Date: 5 p.m. Eastern Time on Wednesday, August 10, 2011.

Docket Numbers: RP11-2329-000.

Applicants: Cimarron River Pipeline, LLC.

Description: 2011 Annual Report of Cash Out Activity of Cimarron River Pipeline, LLC.

Filed Date: 07/29/2011.

Accession Number: 20110729-5269.

Comment Date: 5 p.m. Eastern Time on Wednesday, August 10, 2011.

Docket Numbers: RP11-2330-000.

Applicants: Gulf Crossing Pipeline Company LLC.

Description: Gulf Crossing Pipeline Company LLC submits tariff filing per 154.204: Antero 3 to Tenaska 206 Capacity Release Negotiated Rate Agreement Filing to be effective 8/1/2011.

Filed Date: 08/01/2011.

Accession Number: 20110801-5019.

Comment Date: 5 p.m. Eastern Time on Monday, August 15, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: August 1, 2011.
Nathaniel J. Davis, Sr.,
Deputy Secretary.

[FR Doc. 2011-20051 Filed 8-8-11; 8:45 am]

BILLING CODE 6717-01-P